DEPARTMENT OF HEALTH AND HUMAN SERVICES

[Document Identifier: OS-0990-0208; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Applicant Background Survey—OMB No. 0990-0208- Extension- Assistant Secretary for Administration and Management.

Abstract: The Applicant Background Survey form will be used for the next three years by the Operating Divisions (OPDIVs). The major sub-organizations within the Department of Health and Human Services (HHS), will collect and analyze data on race, sex, national origin, and disability from applicants for employment. Information will be collected by each of the personnel offices in the Department. The form will be used routinely by the OPDIVs when recruiting for all positions, including senior level positions and for selected job series where workforce analysis has shown evidence of low representation of minorities, women, or persons with disabilities. The results of the collection will assist the Department to determine if present recruitment sources yield qualified minority and female applicants and applicants with disabilities as required by EEOC MD 715.

Estimated Annualized Burden Table
Type of respondent | Number of respondents | Number of responses per respondent | Average burden hours per response | Total burden hours
Individuals | 30,000 | 1 | 2 minutes | 1,000

Seleda Perryman,
Office of the Secretary, Paperwork Reduction Act Reports Clearance Officer.

[FR Doc. E9-19513 Filed 8-13-09; 8:45 am]

BILLING CODE 4151-17-P